DEPARTMENT OF HOMELAND SECURITY

Coast Guard

33 CFR Part 100

[Docket No. USCG-2018-0834]

Special Local Regulation; Annual OPA World Championships, Gulf of Mexico; Englewood Beach, FL

AGENCY: Coast Guard, DHS.

ACTION: Notice of enforcement of regulation.

SUMMARY: The Coast Guard will enforce special local regulations for the OPA World Championships from November 16, 2018 through November 18, 2018, to provide for the safety of life on navigable waterways during this event. Our regulation for Annual OPA World Championships identifies the regulated area for this event in Englewood, FL. During the enforcement periods, the operator of any vessel in the regulated area must comply with directions from the Patrol Commander or any Official Patrol displaying a Coast Guard ensign.

DATES: The regulations in 33 CFR 100.735 will be enforced from 9 a.m. until 5 p.m., each day from November 16, 2018, through November 18, 2018.

FOR FURTHER INFORMATION CONTACT: If you have questions about this notice of enforcement, call or email Marine Science Technician First Class Michael D. Shackleford, Sector St. Petersburg Prevention Department, Coast Guard; telephone (813) 228-2191, email Michael.d.shackleford@uscg.mil.

SUPPLEMENTARY INFORMATION: The Coast Guard will enforce special local regulations in 33 CFR 100.735 for the OPA World Championships regulated area from 9 a.m. to 5 p.m. on November 16, 2018 through November 18, 2018. This action is being taken to provide for the safety of life on navigable waterways during this 3-day event. Our regulation for Annual OPA World Championships, § 100.735, specifies the location of the regulated area for the OPA World Championships which encompasses portions of the Gulf of Mexico near Englewood, FL. During the enforcement periods, as reflected in § 100.735, if you are the operator of a vessel in the regulated area you must comply with directions from the Patrol Commander or any Official Patrol displaying a Coast Guard ensign.

In addition to this notice of enforcement in the Federal Register, the Coast Guard will provide notification of this enforcement period via the Broadcast Notice to Mariners.

Holly L. Najarian,
Captain, U.S. Coast Guard, Captain of the Port Saint Petersburg.

[FR Doc. 2018-19176 Filed 9-4-18; 8:45 am]

BILLING CODE 9110-04-P